NUCLEAR REGULATORY COMMISSION

10 CFR Part 26

[Docket No. PRM-26-5; NRC-2010-0304]

Petition for Rulemaking Submitted by the Nuclear Energy Institute

AGENCY: Nuclear Regulatory Commission.

ACTION: Petition for rulemaking; consideration in the rulemaking process.

SUMMARY: The U.S. Nuclear Regulatory Commission (NRC) has decided to consider the issues raised in a petition for rulemaking (PRM) submitted by Anthony R. Pietrangelo, on behalf of the Nuclear Energy Institute (NEI), the petitioner, in the planned “Quality Control/Quality Verification” (QC/QV) rulemaking (Docket ID: NRC-2009-0090). The petitioner requested that the NRC amend its regulations regarding its fitness-for-duty programs to refine existing requirements based on experience gained since the regulations were last amended in 2008.

ADDRESSES: Further NRC action on the issues raised by this petition will be accessible at the Federal rulemaking Web site, http://www.regulations.gov, by searching on the QC/QV rulemaking Docket ID: NRC-2009-0090.

You can access publicly available documents related to the petition using the following methods:

• NRC's Public Document Room (PDR): The public may examine and have copied, for a fee, publicly available documents at the NRC's PDR, O1-F21, One White Flint North, 11555 Rockville Pike, Rockville, Maryland 20852.

• NRC's Agencywide Documents Access and Management System (ADAMS): Publicly available documents created or received at the NRC are available electronically at the NRC's Electronic Reading Room at http://www.nrc.gov/reading-rm/adams.html. From this page, the public can gain entry into ADAMS, which provides text and image files of the NRC's public documents. If you do not have access to ADAMS or if there are problems in accessing the documents located in ADAMS, contact the NRC's PDR reference staff at 1-800-397-4209, 301-415-4737, or by e-mail to pdr.resource@nrc.gov.

• Federal Rulemaking Web Site: Public comments and supporting materials related to this petition can be found at http://www.regulations.gov by searching on the QC/QV rulemaking Docket ID: NRC-2009-0090. Address questions about NRC dockets to Carol Gallagher, telephone: 301-492-3668; e-mail: Carol.Gallagher@nrc.gov.

FOR FURTHER INFORMATION CONTACT: Tara Inverso, Office of Nuclear Reactor Regulation, U.S. Nuclear Regulatory Commission, Washington, DC 20555; telephone: 301-415-1024; e-mail: tara.inverso@nrc.gov or Tim Reed, Office of Nuclear Reactor Regulation, U.S. Nuclear Regulatory Commission, Washington, DC 20555; telephone: 301-415-1462, e-mail: timothy.reed@nrc.gov.

SUPPLEMENTARY INFORMATION: On October 22, 2010, (75 FR 65249), the NRC published a Notice of Receipt of a PRM filed by Anthony R. Pietrangelo, on behalf of NEI, and request for public comment. The comment period closed on January 5, 2011. The NRC received 49 public comments.

The NRC determined that the issues raised in PRM-26-5 are appropriate for consideration and will consider them in the planned QC/QV rulemaking. The NRC staff will address the comments filed in PRM-26-5 as part of the QC/QV rulemaking. This PRM docket is closed.

Dated at Rockville, Maryland, this 30th day of April 2011.
For the Nuclear Regulatory Commission.
Martin J. Virgilio,
Deputy Executive Director for Reactor and Preparedness Programs.

[FR Doc. 2011-11955 Filed 5-13-11; 8:45 am]

BILLING CODE 7590-01-P